DEPARTMENT OF COMMERCE

National Oceanic and Atmospheric Administration

[I.D. 051705D]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene its Socioeconomic Panel (SEP).

DATES: The meeting will be convene at 9 a.m. on Thursday, June 9, 2005, and conclude no later than 2 p.m. on Friday, June 10, 2005.

ADDRESSES: The meeting will be held at the Ramada Inn & Suites New Orleans Airport, 110 James Drive East, St. Rose, LA.

Council address: Gulf of Mexico Fishery Management Council, 3018 North U.S. Highway 301, Suite 1000, Tampa, FL 33619.

FOR FURTHER INFORMATION CONTACT: Mr. Assane Diagne, Economist, Gulf of Mexico Fishery Management Council; telephone: 813.228.2815.

SUPPLEMENTARY INFORMATION: The Gulf of Mexico Fishery Management Council (Council) will convene its Socioeconomic Panel (SEP) to review the Red Snapper Stock Assessment and discuss data requirements for socioeconomic evaluations of individual fishing quota (IFQ) programs. In addition, the SEP will hear a presentation on policy implications of alternative modeling approaches for recreational fishing activities. The SEP will prepare a report containing their conclusions and recommendations. This report will be presented to the Council at its meeting on July 11-14, 2005, in Fort Myers Beach, FL.

A copy of the agenda and related materials can be obtained by calling the Council office at 813.228.2815.

Although other non-emergency issues not on the agendas may come before the SEP for discussion, in accordance with the Magnuson-Stevens Fishery Conservation and Management Act (Magnuson-Stevens Act), those issues may not be the subject of formal action during this meeting. Actions of the SEP will be restricted to those issues specifically identified in the agendas and any issues arising after publication of this notice that require emergency action under section 305(c) of the Magnuson-Stevens Act, provided the public has been notified of the Council's intent to take action to address the emergency.

Special Accommodations

These meetings are physically accessible to people with disabilities. Requests for sign language interpretation or other auxiliary aids should be directed to Dawn Aring at the Council (see ADDRESSES) by May 31, 2005.

Dated: May 17, 2005.
Tracey Thompson,
Acting Director, Office of Sustainable Fisheries, National Marine Fisheries Service.

[FR Doc. E5-2530 Filed 5-19-05; 8:45 am]

BILLING CODE 3510-22-S